INTERNATIONAL TRADE COMMISSION

[Investigation No. 701-TA-630 (Final)]

Glass Containers From China

Determination

On the basis of the record ¹ developed in the subject investigation, the United States International Trade Commission (“Commission”) determines, pursuant to the Tariff Act of 1930 (“the Act”), that an industry in the United States is not materially injured or threatened with material injury by reason of imports of glass containers from China, provided for in subheading 7010.90.50 of the Harmonized Tariff Schedule of the United States, that have been found by the U.S. Department of Commerce (“Commerce”) to be subsidized by the government of China.²

¹ The record is defined in sec. 207.2(f) of the Commission's Rules of Practice and Procedure (19 CFR 207.2(f)).

² 85 FR 31141 (May 22, 2020).

Background

The Commission instituted this investigation effective September 25, 2019, following receipt of antidumping and countervailing duty petitions filed with the Commission and Commerce by the American Glass Packaging Coalition, Tampa, Florida, and Chicago, Illinois. The Commission scheduled the final phase of the investigation following notification of a preliminary determination by Commerce that imports of glass containers from China were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of March 6, 2020 (85 FR 13183). In light of the restrictions on access to the Commission building due to the COVID-19 pandemic, and in accordance with 19 U.S.C. 1677c(a)(1), the Commission did not conduct an in-person hearing scheduled for May 6, 2020. Instead, the Commission conducted its hearing through a series of written questions, submissions of written testimony, written responses to questions, Commissioner questions and answers along with closing arguments and rebuttal remarks via video conference, and posthearing briefs; all persons who requested the opportunity were permitted to participate.

The Commission made this determination pursuant to section 705(b) of the Act (19 U.S.C. 1671d(b)). It completed and filed its determination in this investigation on June 26, 2020. The views of the Commission are contained in USITC Publication 5068 (June 2020), entitled Glass Containers from China: Investigation No. 701-TA-630 (Final).

By order of the Commission.
Dated: June 26, 2020.
Lisa Barton,
Secretary to the Commission.

[FR Doc. 2020-14240 Filed 7-1-20; 8:45 am]

BILLING CODE 7020-02-P